DEPARTMENT OF HOUSING AND URBAN DEVELOPMENT

[Docket No. FR-4909-N-04]

Notice of Proposed Information Collection for Public Comment on Updating the Low Income Housing Tax Credit Database

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: June 28, 2004.

ADDRESSES: Interested persons are invited to submit comments regarding this proposal. Comments should refer to the proposal by name and should be sent to: Reports Liaison Officer, Office of Policy Development and Research, Department of Housing and Urban Development, 451 Seventh Street, SW., Room 8226, Washington, DC 20410.

FOR FURTHER INFORMATION CONTACT: Kurt Usowski, Department of Housing and Urban Development, 451 7th Street, SW., Washington, DC 20410; telephone (202) 708-0426 (this is not a toll-free number). Copies of the proposed data collection instruments and other available documents may be obtained from Mr. Usowski.

SUPPLEMENTARY INFORMATION: The Department will submit the proposed information collection OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Updating the Low Income Housing Tax Credit Database.

Description of the need for the information and proposed use: Section 42 of the I.R.C. provides for Low Income Housing Tax Credits (LIHTC) that encourages the production of qualified low-income housing units. Due to the decentralized nature of the LIHTC program, there are few data available on the units that are currently being developed with this federal tax subsidy. The Department of Housing and Urban Development, while not responsible for administering tax credits, has special responsibilities in understanding and evaluating credit usage, both because the LIHTC helps provide for the housing needs of low-income persons and because credits work in conjunction with HUD subsidies in some units.

Absent this data collection, HUD will not have at its disposal the most current, comprehensive LIHTC data, rendering HUD unable to determine the types of areas in which the units are located, the concentration of such units geographically and with respect to other subsidized housing types, or whether incentives to develop LIHTC units in a set of HUD designed Difficult Development Areas has been effective. In addition, without these data, both HUD and private researchers will be unable to conduct sample-based studies on the LIHTC due to the difficulty of constructing a valid sample without a complete data set on the universe of LIHTC projects.

Members of affected public: Information will be solicited from the 58 agencies (predominantly state-level) that allocate credits under section 42 of the I.R.C.

Estimation of the total numbers of hours needed to prepare the information collection including number of respondents, frequency of response, and hours of response:

Number of respondents: 58.

Number of responses per respondent: 01.

Total number of responses per annum: 58.

Hours per response: 24.

Total hours: 1,392.

Status of the proposed information collection: Pending OMB approval.

Authority: Section 3506 of the Paperwork Reduction Act of 1995, 44 U.S.C. Chapter 35, as amended.

Dated: April 19, 2004.
Darlene F. Williams,
General Deputy Assistant Secretary, for Policy Development and Research.

[FR Doc. 04-9534 Filed 4-26-04; 8:45 am]

BILLING CODE 4210-72-M